DEPARTMENT OF COMMERCE

Bureau of the Census

[Docket Number 100921462-0461-01]

Annual Wholesale Trade Survey

AGENCY: Bureau of the Census, Commerce.

ACTION: Notice of determination.

SUMMARY: The United States Department of Commerce's Bureau of the Census (Census Bureau) publishes this notice to announce that the Director of the Census Bureau has determined the need to conduct the 2010 Annual Wholesale Trade Survey (AWTS). AWTS covers firms with establishments located in the United States and classified in the Wholesale Trade Sector as defined by the 2002 North American Industry Classification System (NAICS). Specifically, AWTS includes wholesale distributors; manufacturers' sales branches and offices; and agents, brokers, and electronic markets. Through this survey, the Census Bureau will collect data on annual sales, e-commerce sales, purchases, total operating expenses, year-end inventories held both inside and outside the United States, commissions, total operating revenue, and gross selling value. These data are collected to provide a sound statistical basis for the formation of policy by various government agencies. These data will be available for use for a variety of public and business needs such as economic and market analysis, company performance, and forecasting future demand.

ADDRESSES: The Census Bureau will provide report forms to businesses included in the survey. Additional copies are available upon written request to the Director, U.S. Census Bureau, Washington, DC 20233-0101.

FOR FURTHER INFORMATION CONTACT: John Miller, Service Sector Statistics Division, on (301) 763-2758 or by e-mail on john.p.miller@census.gov.

SUPPLEMENTARY INFORMATION: Sections 182, 224, and 225 of Title 13 of the United States Code authorize the Census Bureau to take surveys that are necessary to produce current data on the subjects covered by the major censuses. As part of this authorization, the Census Bureau conducts the AWTS to provide continuing and timely national statistics data on wholesale trade activity for the period between economic censuses.

For 2010, the survey will, as it has in the past, consist of a sample of wholesale distributors; manufacturers' sales branches and offices; and agent, brokers, and electronic markets. The data collected in this survey will be similar to that collected in the past and within the general scope and nature of those inquiries covered in the economic census. These data are collected to provide a sound statistical basis for the formation of policy by various government agencies. These data will be available for use for a variety of public and business needs such as economic and market analysis, company performance, and forecasting future demand.

From wholesale distributors, the Census Bureau will collect data covering sales, e-commerce sales, year-end inventories held inside and outside the United States, purchases, and total operating expenses. From manufacturers' sales branches and offices, the Census Bureau will collect data covering annual sales, e-commerce sales, year-end inventories held inside and outside the United States and total operating expenses. From agents, brokers, and electronic markets, the Census Bureau will collect data covering commissions, total operating revenue, gross selling value, and total operating expenses. For more information on the components of wholesale activity covered under this survey, please see the North American Industry Classification System Web site at http://www.census.gov/eos/www/naics/index.html. The Census Bureau has determined that the conduct of this survey is necessary as these data are not available publicly on a timely basis from non-governmental or other government sources.

The Census Bureau will request a sample of firms engaged in the three covered wholesale activities to respond to the 2010 AWTS. Firms are selected for this survey using a stratified random sample based on industry groupings and annual sales size. We will provide report forms to the firms covered by this survey in January 2011 and will require their responses within 30 days after receipt. Responses to AWTS are required by law (Title 13 U.S.C. Sections 182, 224, and 225). The sample of firms selected will provide, with measurable reliability, statistics on annual sales, e-commerce sales, purchases, total operating expenses, year-end inventories held both inside and outside the Unites States, commissions, total operating revenue, and gross selling value for 2010.

Notwithstanding any other provision of law, no person is required to respond to, nor shall a person be subject to a penalty for failure to comply with, a collection of information subject to requirements of the Paperwork Reduction Act (PRA) unless that collection of information displays a current valid Office of Management and Budget (OMB) control number. In accordance with the PRA, 44 U.S.C. 3501-3521, OMB approved the AWTS under OMB control number 0607-0195.

Based upon the foregoing, I have directed that the annual survey be conducted for the purpose of collecting these data.

Dated: October 12, 2010.
Robert M. Groves,
Director, Bureau of the Census.

[FR Doc. 2010-26149 Filed 10-15-10; 8:45 am]

BILLING CODE 3510-07-P